DEPARTMENT OF HOMELAND SECURITY

Coast Guard

33 CFR Part 165

[Docket No. USCG-2022-0235]

Safety Zone; Annual Fireworks Displays Within the Captain of the Port Zone, Columbia River

AGENCY: Coast Guard, Department of Homeland Security (DHS).

ACTION: Notification of enforcement of regulation.

SUMMARY: The Coast Guard will enforce safety zone regulations at various locations in the Sector Columbia River Captain of the Port Zone from May 27, 2022, to July 16, 2022, to provide for the safety of life on navigable waters during these fireworks displays. Our regulation for fireworks displays within the Thirteenth Coast Guard District designates the regulated areas and identifies the approximate dates for these events. The specific dates and times are identified in this notice. These regulations prohibit persons and vessels from being in the regulated areas unless authorized by the Captain of the Port Sector Columbia River or a designated representative.

DATES: The regulations in 33 CFR 165.1315 will be enforced for the safety zones identified in Table 1 in the SUPPLEMENTARY INFORMATION section below for the dates and times specified.

FOR FURTHER INFORMATION CONTACT: If you have questions about this notification of enforcement, call or email LT Sean Murphy, Waterways Management Division, Marine Safety Unit Portland, Coast Guard; telephone 503-240-9319, email D13-SMB-MSUPortlandWWM@uscg.mil.

SUPPLEMENTARY INFORMATION: The Coast Guard will enforce safety zones in 33 CFR 165.1315 for the events specified below in Table 1, during the designated enforcement periods, and within a 450 yard radius of the launch site and the listed locations. This action is being taken to provide for the safety of life on navigable waterways during these events.

Our regulation for fireworks displays within the Thirteenth Coast Guard District designates the regulated areas and identifies the approximate dates for these events. The specific dates and times are specified below. During the enforcement periods, as reflected in § 165.1315, persons and vessels are prohibited from being in the regulated areas unless authorized by the Captain of the Port Sector Columbia River or a designated representative. These safety zones are subject to enforcement at least 1 hour prior to the start and 1 hour after the conclusion of the events.

Table 1—Dates and Durations of Enforcement for 33 CFR 165.1315 Safety Zones at Various Locations Within the Sector Columbia River Captain of the Port Zone in 2022
Event name | Event location | Date of event | Latitude | Longitude
Portland Rose Festival Fireworks | Portland, OR | May 27, 2022 9:30 p.m. to 11 p.m | 45°30′58″ N | 122°40′12″ W
IIwaco July 4th Committee Fireworks/Independence Day at the Port | IIwaco, WA | July 2, 2022 9:30 p.m. to 11:30 pm | 46°18′17″ N | 124°02′00″ W
Yachats 4th of July | Yachats, OR | July 2, 2022 9:30 p.m. to 11 p.m. | 44°18′38″ N | 124°06′27″ W
Cedco Inc./The Mill Casino Independence Day | North Bend, OR | July 3, 2022 9:30 p.m. to 11 p.m. | 43°23′42″ N | 124°12′55″ W
Waldport 4th of July | Waldport, OR | July 3, 2022 9:30 p.m. to 11 p.m. | 44°25′31″ N | 124°04′44″ W
City of Coos Bay July 4th Celebration/Fireworks Over the Bay | Coos Bay, OR | July 4, 2022 9:30 p.m. to 11 p.m. | 43°22′06″ N | 124°12′24″ W
The Dalles Area Fourth of July | The Dalles, OR | July 4, 2022 9:30 p.m. to 11 p.m. | 45°36′18″ N | 121°10′23″ W
Tri-City Chamber of Commerce Fireworks/River of Fire Festival | Kennewick, WA | July 4, 2022 9:30 p.m. to 11:30 p.m. | 46°13′37″ N | 119°08′47″ W
Astoria-Warrenton 4th of July Fireworks | Astoria, OR | July 4, 2022 9:30 p.m. to 11 p.m. | 46°11′34″ N | 123°49′28″ W
Washougal 4th of July | Washougal, WA | July 4, 2022 9:30 p.m. to 11 p.m. | 45°34′32″ N | 122°22′53″ W
City of St. Helens 4th of July Fireworks | St. Helens, OR | July 4, 2022 9:30 p.m. 11 p.m. | 45°51′54″ N | 122°47′26″ W
Lincoln City 4th of July | Lincoln City, OR | July 4, 2022 9:30 p.m. to 11 p.m. | 44°55′28″ N | 124°01′31″ W
Florence Independence Day Celebration | Florence, OR | July 4, 2022 9:30 p.m. to 11 p.m. | 43°58′09″ N | 124°05′50″ W
Bandon 4th of July | Bandon, OR | July 4, 2022 9:30 p.m. to 11 p.m. | 43°07′29″ N | 124°25′05″ W
July 4th Party at the Port of Gold Beach | Gold Beach, OR | July 4, 2022 9:30 p.m. to 11 p.m. | 42°25′30″ N | 124°25′03″ W
Waverly Country Club 4th of July Fireworks | Milwaukie, OR | July 4, 2022 9:30 p.m. to 11 p.m. | 45°27′03″ N | 122°39′18″ W
Port Orford 4th of July Jubilee | Port Orford, OR | July 4, 2022 9:30 p.m. to 11 p.m. | 42°44′31″ N | 124°29′30″ W
Brookings, OR July 4th Fireworks | Brookings, OR | July 4, 2022 9 p.m. to 10:30 p.m. | 42°02′39″ N | 124°16′14″ W
Waterfront Blues Festival | Portland, OR | July 4, 2022 9:30 p.m. to 11 p.m. | 45°30′42″ N | 122°40′14″ W
City of Rainier/Rainier Days | Rainier, OR | July 9, 2022 9:30 p.m. to 11 p.m. | 46°05′46″ N | 122°56′18″ W
Bald Eagle Days | Cathlamet, WA | July 16, 2022 9 p.m. to 11 p.m. | 46°12′14″ N | 123°23′17″ W

All coordinates are listed in reference Datum NAD 1983.

In addition to this notification of enforcement in the Federal Register, the Coast Guard plans to provide notification of these enforcement periods via the Local Notice to Mariners and Broadcast notice to mariners.

Dated: April 4, 2022.
M. Scott Jackson,
Captain, U.S. Coast Guard, Captain of the Port Sector Columbia River.

[FR Doc. 2022-07549 Filed 4-7-22; 8:45 am]

BILLING CODE 9110-04-P